NATIONAL CREDIT UNION ADMINISTRATION

Sunshine Act; Notice of Agency Meeting

TIME AND DATE: 10:00 a.m., Thursday, January 10, 2013.

PLACE: Board Room, 7th Floor, Room 7047, 1775 Duke Street, Alexandria, VA 22314-3428.

STATUS: Open.

MATTERS TO BE CONSIDERED:

1. Board Briefing on the Interagency Final Rule, “Higher-Priced Mortgage” Loans.

2. NCUA Annual Performance Plan 2013.

3. Final Rule—Parts 702, 741 and 791 of NCUA's Rules and Regulations and Interpretive Ruling and Policy Statement 13-1, Regulatory Relief for Small Credit Unions.

4. Final Rule—Section 701.34 of NCUA's Rules and Regulations, Low-Income Designation, Acceptance Deadline.

5. Final Rule—Section 701.37 of NCUA's Rules and Regulations, Technical Amendments—Treasury Tax and Loan Depositaries; Depositaries and Financial Agents of the Government.

6. Final Rule—Section 701.14 of NCUA's Rules and Regulations, “Troubled Condition” Definition.

FOR FURTHER INFORMATION CONTACT: Mary Rupp, Secretary of the Board, Telephone: 703-518-6304

Mary Rupp,
Board Secretary.

[FR Doc. 2013-00205 Filed 1-4-13; 11:15 am]

BILLING CODE 7535-01-P